DEPARTMENT OF COMMERCE

International Trade Administration

Howard Hughes Medical Institute, et al.; Notice of Consolidated Decision on Applications for Duty-Free Entry of Electron Microscope

This is a decision consolidated pursuant to Section 6(c) of the Educational, Scientific, and Cultural Materials Importation Act of 1966 (Pub. L. 89-651, as amended by Pub. L. 106-36; 80 Stat. 897; 15 CFR part 301). Related records can be viewed between 8:30 a.m. and 5 p.m. in Room 3720, U.S. Department of Commerce, 14th and Constitution Avenue NW., Washington, DC.

Docket Number: 11-074. Applicant: Howard Hughes Medical Institute, Chevy Chase, MD 20815. Instrument: Electron Microscope. Manufacturer: FEI Company, Czech Republic. Intended Use: See notice at 77 FR 12240, February 29, 2012.

Docket Number: 12-002. Applicant: National Center for Toxicological Research, Jefferson, AR 72079. Instrument: Electron Microscope. Manufacturer: JEOL Instruments, Japan. Intended Use: See notice at 77 FR 12240, February 29, 2012.

Docket Number: 12-004. Applicant: Max Planck Florida Institute, Jupiter, FL 33458. Instrument: Freeze Fracture/Freeze Etch device. Manufacturer: JEOL, Ltd., Japan. Intended Use: See notice at 77 FR 12240, February 29, 2012.

Docket Number: 12-005. Applicant: VA Palo Alto Health Care System, Palo Alto, CA 94304-1207. Instrument: Electron Microscope. Manufacturer: FEI Company, Czech Republic. Intended Use: See notice at 77 FR 12240, February 29, 2012.

Docket Number: 12-006. Applicant: William Patterson University, Wayne, NJ 07470. Instrument: Electron Microscope. Manufacturer: Hitachi High Technologies America, Inc., Japan. Intended Use: See notice at 77 FR 12240, February 29, 2012.

Comments: None received. Decision: Approved. No instrument of equivalent scientific value to the foreign instrument, for such purposes as this instrument is intended to be used, is being manufactured in the United States at the time the instrument was ordered. Reasons: Each foreign instrument is an electron microscope and is intended for research or scientific educational uses requiring an electron microscope. We know of no electron microscope, or any other instrument suited to these purposes, which was being manufactured in the United States at the time of order of each instrument.

Dated: March 26, 2012.
Gregory W. Campbell,
Director, Subsidies Enforcement Office, Import Administration.

[FR Doc. 2012-7984 Filed 4-2-12; 8:45 am]

BILLING CODE 3510-DS-P